DEPARTMENT OF ENERGY

Federal Energy Regulatory Commission

[Project No. 3309-022]

Marlow Hydro, LLC; Notice of Effectiveness of Withdrawal of Application for Surrender and of Ongoing Effectiveness of Authorization for Continued Project Operation

On June 17, 2022, the Marlow Hydro, LLC, filed an application for surrender of the Nash Mill Dam Hydroelectric Project No. 3309. On June 20, 2023, the Marlow Hydro, LLC, filed a request to withdraw its surrender application.

No motion in opposition to the request for withdrawal has been filed, and the Commission has taken no action to disallow the withdrawal. Pursuant to Rule 216(b) of the Commission's Rules of Practice and Procedure,¹ the withdrawal of the application became effective on July 5, 2023, and this proceeding is hereby terminated.

¹ 18 CFR 385.216(b) (2022).

The Commission issued Notice of Authorization for Continued Project Operation on December 22, 2022. Accordingly, Marlow Hydro, LLC, has been authorized to continue operation of the Nash Mill Dam Hydroelectric Project under the terms and conditions of the prior license until the issuance of a new license for the project or the project is otherwise disposed of under the FPA.

Dated: July 13, 2023.
Debbie-Anne A. Reese,
Deputy Secretary.

[FR Doc. 2023-15316 Filed 7-18-23; 8:45 am]

BILLING CODE 6717-01-P